DEPARTMENT OF THE INTERIOR

Bureau of Land Management

[223.LLAK941200.L1440000.ET0000; A-062024]

Public Land Order No. 7905 ; Extension of Public Land Order No. 6127, as Extended by Public Land Order No. 7471; Campbell Tract Administrative Site, Alaska

AGENCY: Bureau of Land Management, Interior.

ACTION: Public Land Order.

SUMMARY: This Public Land Order (PLO) extends the duration of the withdrawal created by PLO No. 6127, as extended by PLO No. 7471, which would otherwise expire on February 10, 2022, for an additional 20-year term. PLO No. 6127 withdrew approximately 730.13 acres of public land from settlement, sale, location, or entry, under the general land laws, including mining laws, and from selection under Section 6 of the Alaska Statehood Act for the Campbell Tract administrative site, and reserved it for use by the Bureau of Land Management (BLM) in Anchorage, Alaska. PLO No. 7471 extended PLO No. 6127 for an additional 20-year term.

DATES: This PLO takes effect on February 11, 2022.

FOR FURTHER INFORMATION CONTACT: Chelsea Kreiner, BLM Alaska State Office, 222 West Seventh Avenue, Mailstop 13, Anchorage, AK 99513-7504, (907) 271-4205, or ckreiner@blm.gov. People who use a telecommunications device for the deaf (TDD) may call the Federal Relay Service (FRS) at (800) 877-8339 to contact the above individual during normal business hours. The FRS is available 24 hours a day, 7 days a week, to leave a message or question with the above individual. You will receive a reply during normal business hours.

SUPPLEMENTARY INFORMATION: The purpose for which the withdrawal was first made requires this extension to continue the use and protection of the capital investments of the Campbell Tract administrative site.

Order

By virtue of the authority vested in the Secretary of the Interior by Section 204 of the Federal Land Policy and Management Act of 1976, 43 U.S.C. 1714, it is ordered as follows:

1. Subject to valid existing rights, PLO No. 6127, (47 FR 6277 (1982)), as extended by PLO No. 7471 (65 FR 71333 (2000)), which withdrew approximately 730.13 acres of public land from settlement, sale, location, or entry, under the general land laws, including mining laws, and from selection under Section 6 of the Alaska Statehood Act for the Campbell Tract administrative site, and reserved it for use as an administrative site by the Bureau of Land Management, is hereby extended for an additional 20-year period.

2. The withdrawal extended by this Order will expire on February 10, 2042, unless as a result of a review conducted prior to the expiration date, pursuant to Section 204(f) of the Federal Land Policy and Management Act of 1976, 43 U.S.C. 1714(f), the Secretary determines that the withdrawal shall be further extended.

Shannon A. Estenoz,
Assistant Secretary for Fish and Wildlife and Parks.

[FR Doc. 2022-02464 Filed 2-4-22; 8:45 am]

BILLING CODE 4310-JA-P